DEPARTMENT OF TRANSPORTATION

Federal Aviation Administration

Ninth Meeting: RTCA Next Gen Advisory Committee (NAC)

AGENCY: Federal Aviation Administration (FAA), U.S. Department of Transportation (DOT).

ACTION: Notice of RTCA NextGen Advisory Committee (NAC).

SUMMARY: The FAA is issuing this notice to advise the public of the ninth meeting of the RTCA NextGen Advisory Committee (NAC).

DATES: The meeting will be held June 4, 2013 from 9:30 a.m. to 3:00 p.m.

ADDRESSES: The meeting will be at RTCA Headquarters, NBAA/Colson Conference Rooms, 1150 18th Street NW., Suite 910, Washington DC 20036.

FOR FURTHER INFORMATION CONTACT: The RTCA Secretariat, 1150 18th Street NW., Suite 910, Washington, DC 20036, by telephone at (202) 833-9339, fax at (202) 833-9434, or the Web site at http://www.rtca.org. Alternately, contact Andy Cebula at (202) 330-0652, or email acebula@rtca.org.

SUPPLEMENTARY INFORMATION: Pursuant to section 10(a)(2) of the Federal Advisory Committee Act (Pub. L. 92-463, 5 U.S.C., App.), notice is hereby given for a NextGen Advisory Committee meeting. The agenda will include the following:

June 4, 2013

• Opening of Meeting and Introduction of NAC Members—Chairman Bill Ayer, Chairman, Alaska Air Group

• Official Statement of Designated Federal Official—The Honorable Michael Huerta, FAA Administrator

• Review and approval of February 7, 2013 Meeting Summary

• Chairman's Report—Chairman Ayer

• FAA Report—Mr. Huerta

• FAA NextGen Performance SnapShots

• Featured PBN Implementation Location

• Data Sources for Measuring NextGen Fuel Impact

○ Report on data sources to track and analyze the impacts of NextGen developed by the Business Case and Performance Metrics Work Group

• Recommendation for Implementing Categorical Exclusion Contained in FAA Modernization Act of 2012

• Recommendation developed by CatEx2 Task Group for implementing new statutory authority for a streamlined environmental review process.

• Performance Based Navigation (PBN)

○ Recommendation identifying barriers to implementing PBN along with mitigation strategies developed by Operational Capabilities Work Group

• NAC Taskings Discussion

• Anticipated Issues for NAC consideration and action at the next meeting, September 30, 2013, Washington, DC

• Other Business

• Adjourn

Attendance is open to the interested public but limited to space availability. With the approval of the chairman, members of the public may present oral statements at the meeting. Persons wishing to present statements or obtain information should contact the person listed in the “FOR FURTHER INFORMATION CONTACT” section. Members of the public may present a written statement to the committee at any time.

Issued in Washington, DC, on May 7, 2013.
Paige L. Williams,
Management Analyst, Business Operations Group, ANG-A12, Federal Aviation Administration.

[FR Doc. 2013-11730 Filed 5-15-13; 8:45 am]

BILLING CODE 4910-13-P